DEPARTMENT OF AGRICULTURE

Forest Service

Black Hills National Forest Advisory Board

AGENCY: Forest Service, Agriculture (USDA).

ACTION: Notice of intent to re-establish the charter for the Black Hills National Forest Advisory Board.

SUMMARY: The U.S. Department of Agriculture, Forest Service intends to reestablish the Charter of the Black Hills National Forest Advisory Board (Board). The purpose of the Board is to obtain advice and recommendations on a broad range of forest issues such as forest plan revisions or amendments, forest health including fire management and mountain pine beetle infestations, travel management, forest monitoring and evaluation, recreation fees, and site-specific projects having forest wide implications.

FOR FURTHER INFORMATION CONTACT: Scott Jacobson, Committee Coordinator, USDA, Black Hills National Forest, by telephone: 605-440-1409, fax: 605-673-9208, or email: scott.j.jacobson@usda.gov. Individuals who use telecommunication devices for the deaf/hard-of-hearing (TDD) may call the Federal Relay Service (FRS) at 1-800-877-8339, 24 hours a day, every day of the year, including holidays.

SUPPLEMENTARY INFORMATION: USDA 16565—Black Hills National Forest Advisory Board is a non-scientific program advisory Board established by the Secretary of Agriculture in 2003 to provide advice and counsel to the U.S. Forest Service, Black Hills National Forest, in the wake of increasingly severe and intense wildfires and mountain pine beetle epidemics.

The purpose of the Board is to provide advice and recommendations on a broad range of forest issues such as forest plan revisions or amendments, travel management, forest monitoring and evaluation, and site-specific projects having forest-wide implications. The Board also serves to meet the needs of the Recreation Enhancement Act of 2005 as a recreation resource advisory committee (RRAC) for the Black Hills of South Dakota. The Board provides timely advice and recommendations to the Regional Forester through the Forest Supervisor regarding programmatic forest issues and project-level issues that have forest-wide implications for the Black Hills National Forest.

The Board meets approximately ten times a year, with one meeting being a field trip, held in August, and focusing on both current issues and the educational value of seeing management strategies and outcomes on the ground. This Board has been established as a truly credible entity and a trusted voice on forest management issues and is doing often astonishing work in helping to develop informed consent for forest management.

For years, the demands made on the Black Hills National Forest have resulted in conflicts among interest groups, resulting in both forest-wide and site-specific programs being delayed due to appeals and litigation. The Board provides a forum to resolve these issues to allow for the Black Hills National Forest to move forward in its management activities.

Significant Contributions

The Board's most significant accomplishments include:

1. A 2004 report on the Black Hills Fuels Reduction Plan, a priority following the major fires including the 86,000 acre Jasper Fire in 2000;

2. A 2004 initial Off-Highway Vehicle Travel Management Subcommittee report;

3. A report on their findings regarding the thesis, direction, and assumptions of Phase II of the Forest Plan produced in 2005;

4. The Invasive Species Subcommittee Report in 2005 covering recommendations to better stop invasive species from infiltrating the Forest;

5. A final Travel Management Subcommittee Report in 2006 in which the Board made 11 recommendations regarding characteristics of a designated motor vehicle trail system, the basis for initial work to prepare the Motor Vehicle Use Map in 2010-2011;

6. The Mountain Pine Beetle Response Project in 2012 covering landscape scale treatments on portions of 248,000 acres of ponderosa pine stands at high risk for infestation;

7. The Board's annual work to attract funding through grants based on the Collaborative Landscape Forest Restoration Program (CFLRP), a program of the Secretary of Agriculture to encourage the collaborative, science-based ecosystem restoration of priority forest landscapes;

8. Recommendations for implementing the Black Hills Resilient Landscape (BHRL) project that proposed landscape vegetation treatment on 1,098,0000 acres;

9. A recommendation to develop a non-motorized Trail Strategy for various users across the Forest;

10. A recommendation on mineral withdrawal action in Research Natural Areas (RNA) and Botanical Areas (BA) on the Black Hills National Forest;

11. A letter to the Secretary and the Chief of the Forest Service to work, restore, and maintain open space for wildlife habitat and recreation needs like snowmobile trails; and

12. Annual reports to the Secretary detailing the Board's activities, issues, and accomplishments.

The reestablishment of the Board is deemed to be among the most effective public involvement strategies in the Forest Service and continues to lead by example for Federal, State, and local government agencies working to coordinate and cooperate in the Black Hills of South Dakota and Wyoming.

Background

Pursuant to the Federal Advisory Committee Act (5 U.S.C. App. II); notice is hereby given that the Secretary of Agriculture intends to re-establish the charter of the Black Hills National Forest Advisory Board. The Board provides advice and recommendations on a broad range of forest issues and, in accordance with the Federal Lands Recreation Enhancement Act (Pub. L. 108-447 (FLREA)), more specifically will provide advice and recommendations on Black Hills National Forest recreation fee issues (serving as the RRAC for the Black Hills National Forest). The Board membership consists of individuals representing commodity interests, amenity interests, and State and local government.

The Board has been determined to be in the public interest in connection with the duties and responsibilities of the Black Hills National Forest. National forest management requires improved coordination among the interests and governmental entities responsible for land management decisions and the public that the agency serves.

Advisory Committee Organization

The Board consists of 16 members that are representative of the following interests (this membership is similar to the membership outlined by the Secure Rural Schools and Community Self Determination Act for Resource Advisory Committees (16 U.S.C. 500, et seq.)):

1. Economic development;

2. Developed outdoor recreation, off-highway vehicle users, or commercial recreation;

3. Energy and mineral development;

4. Forest products industry;

5. Grazing or other permit holders;

6. Nationally recognized environmental organization;

7. Regionally recognized environmental organization;

8. Dispersed recreation;

9. Archaeological, cultural, and historical interests;

10. Nationally or regionally recognized sportsmen's groups, such as anglers or hunters;

11. State, county, local-elected or South Dakota or Wyoming appointed office holders (3 positions);

12. Tribal government elected or appointed officials;

13. State Natural Resource Agency, South Dakota; and

14. State Natural Resource Agency, Wyoming.

No individual who is currently registered as a Federal lobbyist is eligible to serve as a member of the Committee. The Committee will meet approximately nine times and will attend at least one summer field tour as determined by the Designated Federal Officer (DFO).

The members of the Board will elect and determine the responsibilities of the Chairperson and the Vice-Chairperson. In the absence of the Chairperson, the Vice-Chairperson will act in the Chairperson's stead. The Forest Supervisor of the Black Hills National Forest serves as the Designated Federal Officer (DFO) under sections 10(e) and (f) of the Federal Advisory Committee Act (5 U.S.C. App. II).

Members will serve without compensation but may be reimbursed for travel expenses while performing duties on behalf of the Board, subject to approval by the DFO.

Equal opportunity practices are followed in all appointments to the Board in accordance with USDA policies. To ensure that the recommendations of the Board have taken into account the needs of diverse groups served by the Black Hills National Forest, membership shall include, to the extent practicable, individuals with demonstrated ability to represent the needs of men and women of all racial and ethnic groups, and persons with disabilities.

Dated: October 15, 2021.
Cikena Reid,
USDA Committee Management Officer.

[FR Doc. 2021-22872 Filed 10-19-21; 8:45 am]

BILLING CODE 3411-15-P